DEPARTMENT OF VETERANS AFFAIRS

Notice of Tribal Consultation

AGENCY: Department of Veterans Affairs.

ACTION: Notice of Tribal Consultation.

SUMMARY: The Department of Veterans Affairs (VA) Office of Tribal Government Relations (OTGR) will host a Tribal Consultation on the Memorandum of Understanding (MOU) between VA and the Indian Health Service (IHS) and how the MOU has affected health care for Veterans. The consultation session will be held on September 8, 2014, at Hyatt Regency Albuquerque, 330 Tijeras NW., Albuquerque, New Mexico from 1:00 p.m. to 2:30 p.m. Mountain Standard Time.

DATES: Comments must be submitted to VA no later than Wednesday, October 8, 2014.

ADDRESSES: Written comments concerning the consultation may be submitted as follows:

Email: tribalgovernmentconsultation@va.gov.

Mail: U.S. Department of Veterans Affairs, Office of Intergovernmental Affairs (075F), 810 Vermont Avenue NW., Suite 915G, Washington, DC 20420.

This deadline does not preclude anyone from providing testimony at the session and we will, to the extent that times allows, hear your testimony. For any Tribe unable to present testimony, please be aware that VA will keep the testimony record open for 30 days after the date of the consultation. All 2014 consultation testimony, as well as official responses from VA, will be shared with tribal governments through a VA tribal consultation report to be disseminated in 2015.

Registration for the consultation is not required, but if you wish to register, please submit your name, title, Tribe or organization, phone, and email address to tribalgovernmentconsultation@va.gov.

FOR FURTHER INFORMATION CONTACT: Terry Bentley, Tribal Government Relations Specialist/Western Region, VA Office of Tribal Government Relations at (541) 440-1271, or by email at Terry.Bentley@va.gov.

SUPPLEMENTARY INFORMATION: In October 2010, the Department of Veterans Affairs (VA) and the Indian Health Service (IHS) signed a Memorandum of Understanding (MOU) to establish coordination, collaboration, and resource-sharing between the two organizations. The goal of the MOU is to bring together the strengths and expertise of each agency to actively improve the care and services provided by both of them.

The MOU sets forth five mutual goals for VA and IHS:

1. Increase access to and improve quality of health care services.

2. Promote patient-centered collaboration and facilitate communication among VA, IHS, American Indian and Alaska Native Veterans, Tribal facilities and Urban Indian Clinics.

3. In consultation with tribes at the regional and local levels, establish effective partnerships and sharing agreements.

4. Ensure that appropriate resources are identified and available to support programs for American Indian and Alaska Native Veterans.

5. Improve health-promotion and disease-prevention services to American Indians and Alaska Natives to address community-based wellness.

The purpose of the consultation is to assess the level of awareness tribes have about the MOU and its impact on Veteran care, as well as, the MOU's role in supporting access to care for Veterans living in Indian Country. The agency is seeking input from tribal leaders on the questions listed below:

1. What do you know about the 2010 Veterans Affairs/Indian Health Service Memorandum of Understanding (MOU)?

2. How did your community learn about the 2010 Veterans Affairs/Indian Health Service MOU?

3. What is the status of access to health care for Native Veterans in your community since the VA/IHS MOU was signed in 2010?

a. Has it improved?

b. Has it gotten worse?

c. No change?

d. Can you provide examples?

4. Specifically, is health care for Native Veterans in your community more accessible? Which aspects of the VA/IHS MOU are most critical to improving Native American access to health care?

5. Specifically, is there more coordination between your local health care facility and VA for the Veterans in your community?

6. Are there other aspects to quality of life in your community that have been impacted by the VA/IHS MOU?

7. How are the Reimbursement Agreements (under which VA reimburses the IHS or a Tribal Health Program for direct health care services provided to eligible American Indian/Alaska Native Veterans in those facilities) helping Veterans in Indian Country?

8. What can VA and IHS do to better educate the community on the VA/IHS MOU?

Dated: July 24, 2014.
Robert C. McFetridge,
Director, Office of Regulation Policy and Management, Office of the General Counsel, Department of Veterans Affairs.

[FR Doc. 2014-17797 Filed 7-28-14; 8:45 am]

BILLING CODE 8320-01-P